DEPARTMENT OF ENERGY

Federal Energy Regulatory Commission

Combined Notice of Filings #1

Take notice that the Commission received the following electric rate filings:

Docket Numbers: ER18-855-000.

Applicants: Panoche Valley Solar, LLC.

Description: Report Filing: Refund Report of Panoche Valley Solar, LLC to be effective N/A.

Filed Date: 5/21/19.

Accession Number: 20190521-5109.

Comments Due: 5 p.m. ET 6/11/19.

Docket Numbers: ER19-709-003.

Applicants: Entergy Louisiana, LLC.

Description: Tariff Amendment: Entergy OpCos Reactive Power Update to be effective 1/1/2019.

Filed Date: 5/22/19.

Accession Number: 20190522-5117.

Comments Due: 5 p.m. ET 6/12/19.

Docket Numbers: ER19-1455-001.

Applicants: Wisconsin Public Service Corporation.

Description: Tariff Amendment: TCJA Supplemental Filing to be effective 1/1/2018.

Filed Date: 5/22/19.

Accession Number: 20190522-5098.

Comments Due: 5 p.m. ET 6/12/19.

Docket Numbers: ER19-1823-001.

Applicants: Midcontinent Independent System Operator, Inc.

Description: Compliance filing: 2019-05-21_Amendment RM17-8 Compliance regarding Surplus Interconnection Service to be effective 12/31/9998.

Filed Date: 5/21/19.

Accession Number: 20190521-5128.

Comments Due: 5 p.m. ET 6/11/19.

Docket Numbers: ER19-1921-000.

Applicants: The United Illuminating Company.

Description: Tariff Cancellation: Termination of Localized Costs Sharing Agreement No. 17 to be effective 4/1/2019.

Filed Date: 5/21/19.

Accession Number: 20190521-5136.

Comments Due: 5 p.m. ET 6/11/19.

Docket Numbers: ER19-1922-000.

Applicants: PJM Interconnection, L.L.C.

Description: Compliance filing: Compliance Filing re: Option to Build Provisions in EL19-18-000 to be effective 7/22/2019.

Filed Date: 5/21/19.

Accession Number: 20190521-5137.

Comments Due: 5 p.m. ET 6/11/19.

Docket Numbers: ER19-1923-000.

Applicants: Kansas City Power & Light Company.

Description: § 205(d) Rate Filing: KCP&L Certificate of Concurrence for Amended & Restated Interchange Agreement to be effective 5/16/2019.

Filed Date: 5/22/19.

Accession Number: 20190522-5000.

Comments Due: 5 p.m. ET 6/12/19.

Docket Numbers: ER19-1924-000.

Applicants: Cheyenne Light, Fuel and Power Company.

Description: Compliance filing: Order No. 845 Compliance Filing-Amendments to OATT to be effective 5/22/2019.

Filed Date: 5/22/19.

Accession Number: 20190522-5001.

Comments Due: 5 p.m. ET 6/12/19.

Docket Numbers: ER19-1925-000.

Applicants: Black Hills Colorado Electric, LLC.

Description: Compliance filing: Order No. 845 Compliance Filing-Amendments to OATT to be effective 5/22/2019.

Filed Date: 5/22/19.

Accession Number: 20190522-5002.

Comments Due: 5 p.m. ET 6/12/19.

Docket Numbers: ER19-1926-000.

Applicants: Black Hills Power, Inc.

Description: Compliance filing: Order No. 845 Compliance Filing-Amendments to OATT to be effective 5/22/2019.

Filed Date: 5/22/19.

Accession Number: 20190522-5003.

Comments Due: 5 p.m. ET 6/12/19.

Docket Numbers: ER19-1927-000.

Applicants: Portland General Electric Company.

Description: Compliance filing: Order 845 Compliance Filing to be effective 5/22/2019.

Filed Date: 5/22/19.

Accession Number: 20190522-5004.

Comments Due: 5 p.m. ET 6/12/19.

Docket Numbers: ER19-1928-000.

Applicants: Southwest Power Pool, Inc.

Description: § 205(d) Rate Filing: 3290R2 Sholes Wind GIA to be effective 4/25/2019.

Filed Date: 5/22/19.

Accession Number: 20190522-5016.

Comments Due: 5 p.m. ET 6/12/19.

Docket Numbers: ER19-1929-000.

Applicants: Arizona Public Service Company.

Description: Notice of Cancellation of Rate Schedule No. 125 of Arizona Public Service Company.

Filed Date: 5/21/19.

Accession Number: 20190521-5157.

Comments Due: 5 p.m. ET 6/11/19.

Docket Numbers: ER19-1930-000.

Applicants: Dominion Energy South Carolina, Inc.

Description: Tariff Cancellation: Notice of Termination of WR Tariff (sections) (Amended) to be effective 4/8/2019.

Filed Date: 5/22/19.

Accession Number: 20190522-5035.

Comments Due: 5 p.m. ET 6/12/19.

Docket Numbers: ER19-1931-000.

Applicants: Electric Energy, Inc.

Description: Compliance filing: compliance 2019 Attachment M 2 to be effective 5/22/2019.

Filed Date: 5/22/19.

Accession Number: 20190522-5056.

Comments Due: 5 p.m. ET 6/12/19.

Docket Numbers: ER19-1932-000.

Applicants: Duke Energy Progress, LLC.

Description: § 205(d) Rate Filing: DEP-PJM Amended JOA Certificate of Concurrence to be effective 7/22/2019.

Filed Date: 5/22/19.

Accession Number: 20190522-5059.

Comments Due: 5 p.m. ET 6/12/19.

Docket Numbers: ER19-1933-000.

Applicants: Southwest Power Pool, Inc.

Description: § 205(d) Rate Filing: 3101R3 Heartland Consumers Power District NITSA and NOA to be effective 5/1/2019.

Filed Date: 5/22/19.

Accession Number: 20190522-5069.

Comments Due: 5 p.m. ET 6/12/19.

Docket Numbers: ER19-1934-000.

Applicants: Tucson Electric Power Company.

Description: Compliance filing: Order No. 845 Compliance Filing to be effective 5/22/2019.

Filed Date: 5/22/19.

Accession Number: 20190522-5070.

Comments Due: 5 p.m. ET 6/12/19.

Docket Numbers: ER19-1935-000.

Applicants: UNS Electric, Inc.

Description: Compliance filing: Order No. 845 Compliance Filing to be effective 5/22/2019.

Filed Date: 5/22/19.

Accession Number: 20190522-5071.

Comments Due: 5 p.m. ET 6/12/19.

Docket Numbers: ER19-1936-000.

Applicants: Idaho Power Company.

Description: Compliance filing: Order Nos. 845 and 845-A Compliance Filing—LGIP and LGIA Revisions to be effective 5/22/2019.

Filed Date: 5/22/19.

Accession Number: 20190522-5072.

Comments Due: 5 p.m. ET 6/12/19.

Docket Numbers: ER19-1937-000.

Applicants: Mid-Atlantic Interstate Transmission, LLC, PJM Interconnection, L.L.C.

Description: Tariff Cancellation: MAIT submits Notice of Cancellation of Generation Facility Transmission IA 599 to be effective 4/30/2019.

Filed Date: 5/22/19.

Accession Number: 20190522-5073.

Comments Due: 5 p.m. ET 6/12/19.

Docket Numbers: ER19-1938-000.

Applicants: Florida Power & Light Company.

Description: Compliance filing: FPL Order No. 845 Compliance Filing-LGIP & LGIA Revisions to be effective 5/22/2019.

Filed Date: 5/22/19.

Accession Number: 20190522-5074.

Comments Due: 5 p.m. ET 6/12/19.

Docket Numbers: ER19-1939-000.

Applicants: Arizona Public Service Company.

Description: Compliance filing: APS Order No. 845 Filing to be effective 5/22/2019.

Filed Date: 5/22/19.

Accession Number: 20190522-5075.

Comments Due: 5 p.m. ET 6/12/19.

Docket Numbers: ER19-1940-000.

Applicants: Florida Power & Light Company.

Description: Compliance filing: Order 845 Compliance Filing to be effective 5/22/2019.

Filed Date: 5/22/19.

Accession Number: 20190522-5099.

Comments Due: 5 p.m. ET 6/12/19.

Docket Numbers: ER19-1941-000.

Applicants: Flat Ridge 2 Wind Energy LLC.

Description: § 205(d) Rate Filing: Revised Market-Based Rate Tariff Filing to be effective 4/22/2019.

Filed Date: 5/22/19.

Accession Number: 20190522-5100.

Comments Due: 5 p.m. ET 6/12/19.

Docket Numbers: ER19-1942-000.

Applicants: Fowler Ridge II Wind Farm LLC.

Description: § 205(d) Rate Filing: Revised Market-Based Rate Tariff Filing to be effective 4/22/2019.

Filed Date: 5/22/19.

Accession Number: 20190522-5102.

Comments Due: 5 p.m. ET 6/12/19.

Docket Numbers: ER19-1943-000.

Applicants: NorthWestern Corporation.

Description: Compliance filing: Order No. 845 & 845-A Compliance Filing (Montana) to be effective 5/22/2019.

Filed Date: 5/22/19.

Accession Number: 20190522-5107.

Comments Due: 5 p.m. ET 6/12/19.

Docket Numbers: ER19-1944-000.

Applicants: The Potomac Edison Company, PJM Interconnection, L.L.C.

Description: § 205(d) Rate Filing: The Potomac Edison Company submits Interconnection Agreement No. 4313 to be effective 7/21/2019.

Filed Date: 5/22/19.

Accession Number: 20190522-5108.

Comments Due: 5 p.m. ET 6/12/19.

Docket Numbers: ER19-1945-000.

Applicants: Pacific Gas and Electric Company, Southern California Edison Company, San Diego Gas & Electric Company.

Description: Pre-Arranged/Pre-Agreed (Amending 2017 Settlement Agreement) Filing of Pacific Gas and Electric Company, et al.

Filed Date: 5/22/19.

Accession Number: 20190522-5114.

Comments Due: 5 p.m. ET 6/12/19.

Docket Numbers: ER19-1946-000.

Applicants: Dominion Energy South Carolina, Inc.

Description: Compliance filing: Order Nos. 845 and 845-A—Attachment M to be effective 5/22/2019.

Filed Date: 5/22/19.

Accession Number: 20190522-5123.

Comments Due: 5 p.m. ET 6/12/19.

Docket Numbers: ER19-1947-000.

Applicants: Puget Sound Energy, Inc.

Description: Compliance filing: Order No. 845 Compliance Filing to be effective 5/22/2019.

Filed Date: 5/22/19.

Accession Number: 20190522-5134.

Comments Due: 5 p.m. ET 6/12/19.

Docket Numbers: ER19-1948-000.

Applicants: PacifiCorp.

Description: Compliance filing: OATT Order 845 Changes to be effective 5/22/2019.

Filed Date: 5/22/19.

Accession Number: 20190522-5135.

Comments Due: 5 p.m. ET 6/12/19.

Docket Numbers: ER19-1949-000.

Applicants: New York Independent System Operator, Inc.

Description: Compliance filing: Compliance filing re: Order No. 845 and 845-A revisions to LFIP and LGIA to be effective 12/31/9998.

Filed Date: 5/22/19.

Accession Number: 20190522-5137.

Comments Due: 5 p.m. ET 6/12/19.

Docket Numbers: ER19-1950-000.

Applicants: California Independent System Operator Corporation.

Description: Compliance filing: 2019-05-22 Order No. 845 Compliance to be effective 12/31/9998.

Filed Date: 5/22/19.

Accession Number: 20190522-5138.

Comments Due: 5 p.m. ET 6/12/19.

Docket Numbers: ER19-1951-000.

Applicants: ISO New England Inc., Eversource Energy Service Company (as agent).

Description: Compliance filing: Rev. to Schedule 22 of ISO Tariff in Compliance with Order Nos. 845 & 845-A to be effective 12/31/9998.

Filed Date: 5/22/19.

Accession Number: 20190522-5140.

Comments Due: 5 p.m. ET 6/12/19.

Docket Numbers: ER19-1952-000.

Applicants: ISO New England Inc., New England Power Pool Participants Committee.

Description: § 205(d) Rate Filing: Revisions to ISO Tariff to Modify Timelines and Scope of Interconnection Studies to be effective 12/31/9998.

Filed Date: 5/22/19.

Accession Number: 20190522-5147.

Comments Due: 5 p.m. ET 6/12/19.

Docket Numbers: ER19-1953-000.

Applicants: El Paso Electric Company.

Description: Compliance filing: OATT Order Nos. 845 and 845-A Compliance Filing Attachment M to be effective 5/22/2019.

Filed Date: 5/22/19.

Accession Number: 20190522-5155.

Comments Due: 5 p.m. ET 6/12/19.

Take notice that the Commission received the following electric reliability filings.

Docket Numbers: RD19-5-000.

Applicants: North American Electric Reliability Corporation.

Description: Petition of the North American Electric Reliability Corporation for Approval of Proposed Reliability Standard CIP-003-8.

Filed Date: 5/21/19.

Accession Number: 20190521-5169.

Comments Due: 5 p.m. ET 6/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2019.
Nathaniel J. Davis, Sr.,
Deputy Secretary.

[FR Doc. 2019-11160 Filed 5-28-19; 8:45 am]

BILLING CODE 6717-01-P